OFFICE OF GOVERNMENT ETHICS

Agency Information Collection Activities; Notice of Approval of Information Collection Requirements

AGENCY: Office of Government Ethics (OGE).

ACTION: Notice of approval of information collection requirements.

SUMMARY: In accordance with the Paperwork Reduction Act of 1995 (PRA), the U.S. Office of Government Ethics (OGE) is announcing Office of Management and Budget (OMB) approval of new information collection requirements contained in a final rule published in the Federal Register on May 25, 2023, “Legal Expense Fund Regulation.”

FOR FURTHER INFORMATION CONTACT: McEvan Baum at the U.S. Office of Government Ethics; telephone: 202-482-9287; TTY: 800-877-8339; Email: usoge@oge.gov.

SUPPLEMENTARY INFORMATION: Under the PRA (44 U.S.C. 3501 et seq.), an agency may not conduct or sponsor a collection of information, and the public is not obligated to respond to a collection of information, unless the collection of information displays a currently valid OMB control number.

On May 25, 2023, OGE published a final rule establishing a framework to govern an executive branch employee's acceptance of payments for legal expenses through a Legal Expense Fund (LEF) for matters arising in connection with the employee's official position, the employee's prior position on a campaign of a candidate for President or Vice President, or the employee's prior position on a Presidential Transition Team. The requirements for establishing and maintaining a LEF are found in 5 CFR part 2635, subpart J (LEF regulation).

The LEF regulation requires that employees who wish to establish a legal expense fund do so through a trust with a single, named employee beneficiary and a trustee. It also requires an employee beneficiary to file quarterly reports that include information (1) regarding members of the public who make financial donations to help pay for the employee beneficiary's legal expenses (donors) and (2) members of the public who receive payments from a legal expense fund (payees). The employee beneficiary must also file a termination report upon the termination of the trust and/or executive branch employment. The trust documents, quarterly reports, and termination reports will be posted directly on OGE's website in accordance with 5 CFR 2635.1007(g). Together, this information collection (IC) is titled “OGE Legal Expense Fund Information Collection.”

OGE submitted a request for approval of this information collection on May 25, 2023, and OMB approved it on July 21, 2023. It was assigned OMB Control Number 3209-0012. Therefore, in accordance with the PRA, OGE hereby announces OMB approval of the information collection requirements as contained in the final rule, which will be effective November 21, 2023.

Approved: August 23, 2023.
Shelley K. Finlayson,
Acting Director, U.S. Office of Government Ethics.

[FR Doc. 2023-18526 Filed 8-25-23; 8:45 am]

BILLING CODE 6345-03-P